DEPARTMENT OF HEALTH AND HUMAN SERVICES

Substance Abuse and Mental Health Services Administration

Office for Women's Services; Notice of Meeting

Pursuant to Public Law 92-463, notice is hereby given of the meeting of the Advisory Committee for Women's Services of the Substance Abuse and Mental Health Services Administration (SAMHSA) for June 2002.

The meeting of the Advisory Committee for Women's Services will include a discussion of SAMHSA's Priorities, Programs and Principles regarding: Co-occurring Disorders; Substance Abuse treatment capacity; Seclusion and Restraint; Prevention and Early Intervention; Children and Families; New Freedom Initiative; Terrorism/Bio-Terrorism; Homelessness; Aging; HIV/AIDS and Hepatitis C; Criminal Justice, and other issues affecting women.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-5184.

Attendance by the public will be limited to space available. Public comments are welcome. Please communicate with the individual listed as contact below to make arrangements to comment or to request special accommodations for persons with disabilities.

Substantive information may be obtained from the contact whose name and telephone number is listed below.

Committee Name: Advisory Committee for Women's Services.

Meeting Date: June 20, 2002.

Place: 9751 Washingtonian Boulevard, Gaithersburg, MD.

Type: Open: June 20, 2002—1:45-5 p.m.

Contact: Nancy P. Brady, Executive Secretary, Telephone: (301) 443-5184 and FAX: (301) 443-8964.

Dated: June 4, 2002.
Toian Vaughn,
Committee Management Officer, Substance Abuse and Mental Health, Services Administration.

[FR Doc. 02-14545 Filed 6-10-02; 8:45 am]

BILLING CODE 4162-20-P